DEPARTMENT OF COMMERCE

National Oceanic and Atmospheric Administration

RIN 0648-XG921

New England Fishery Management Council; Public Meeting

AGENCY: National Marine Fisheries Service (NMFS), National Oceanic and Atmospheric Administration (NOAA), Commerce.

ACTION: Notice of public meeting.

SUMMARY: The New England Fishery Management Council (Council, NEFMC) will hold a three-day meeting to consider actions affecting New England fisheries in the exclusive economic zone (EEZ).

DATES: The meeting will be held on Tuesday, April 16 through Thursday, April 18, 2019, beginning at 9 a.m. on April 16 and 8:30 a.m. on April 17 and 18.

ADDRESSES: The meeting will be held at the Hilton Hotel, 20 Coogan Boulevard, Mystic, CT 06355; telephone: (860) 572-0328; online at https://www3.hilton.com/en/hotels/connecticut/hilton-mystic-MYSMHHF/index.html.

Council address: New England Fishery Management Council, 50 Water Street, Mill 2, Newburyport, MA 01950; telephone: (978) 465-0492; www.nefmc.org.

FOR FURTHER INFORMATION CONTACT: Thomas A. Nies, Executive Director, New England Fishery Management Council; telephone: (978) 465-0492, ext. 113.

SUPPLEMENTARY INFORMATION:

Agenda

Tuesday, April 16, 2019

After introductions and brief announcements, the meeting will begin with reports from the Council Chairman and Executive Director, NMFS's Regional Administrator for the Greater Atlantic Regional Fisheries Office (GARFO), liaisons from the Northeast Fisheries Science Center (NEFSC) and Mid-Atlantic Fishery Management Council (MAFMC), representatives from NOAA General Counsel and NOAA's Office of Law Enforcement, and staff from the Atlantic States Marine Fisheries Commission (ASMFC) and the U.S. Coast Guard. The Council also will receive a short report on the South Atlantic Council's Dolphin Wahoo Amendment 10. The Council next will receive a presentation from NOAA Fisheries on the joint NOAA Fisheries/U.S. Fish and Wildlife Service recovery plan for the Gulf of Maine District Population Segment of Atlantic Salmon. This will be followed by a GARFO presentation on options that will be considered by the Atlantic Large Whale Take Reduction Team (ALWTRT) during its April 23-26, 2019 meeting. The Council's discussion will focus on potential ALWTRT impacts on New England-managed fisheries. GARFO also will provide information about the Biological Opinion for all species listed under the Endangered Species Act that may be affected by the 10 fishery management plans that NOAA Fisheries is consulting on. The Council then will receive a progress report on the Mid-Atlantic Fishery Management Council's Commercial eVTR Omnibus Framework Action, which the MAFMC is developing to consider implementing electronic Vessel Trip Reports for all vessels with commercial permits for species managed by the Mid-Atlantic Council.

After the lunch break, members of the public will have the opportunity to speak during an open comment period on issues that relate to Council business but are not included on the published agenda for this meeting. The Council asks the public to limit remarks to 3-5 minutes. The Groundfish Committee will report next. The Council is scheduled to approve the range of alternatives for Groundfish Monitoring Amendment 23. It also will receive an update on the status of ongoing listening sessions, which are being held to gauge public interest in whether or not the Council should develop an amendment to the groundfish plan to limit access to the party/charter fishery. In addition, the Council will receive an update on its Five-Year Catch Share Review, which is underway, and then approve a modified Gear Standards Policy to facilitate use of gear in accountability measures. At the conclusion of the discussion, the Council will adjourn for the day.

Wednesday, April 17, 2019

The Council will begin the day with a progress report from its Ecosystem-Based Fishery Management (EBFM) Committee on setting catch limits for stock complexes, managing overfished stocks, and other issues related to the development of an example Fishery Ecosystem Plan (eFEP) for Georges Bank. The Council then will receive the Northeast Fisheries Science Center's annual Ecosystem Status Report, which provides an update on the condition of the Northeast Continental Shelf ecosystem. The Atlantic Herring Committee will report next. First, the Council will receive a progress report on the development of 2019-21 specifications for Atlantic herring and approve the Scientific and Statistical Committee's (SSC) acceptable biological catch and overfishing limit recommendations. The Council then will identify the range of additional management measures for the 2019-21 Atlantic herring fishing years if any measures are needed.

Following the lunch break, the Council will receive and discuss the final report from the Research Set-Aside (RSA) Program Review Panel. The Council may make recommendations based on the panel's findings. Next, the SSC will provide comments and recommendations on the Council's revised research priorities, which were developed in 2018 and updated based on suggestions from the Council's committees and Plan Development Teams. The full Council then will review, discuss, and approve the updated list. Before adjourning for the day, the Council will review, discuss, and approve updates to the Council Operations Handbook regarding the Research Steering Committee, research priority setting, and research review policy.

Thursday, April 18, 2019

The third day of the meeting will begin with a report from the Council's executive director on the staff's participation in a facilitated offsite workshop, which was held March 13-14, 2019 and was prompted by a recommendation from the Council Program Review Panel. The remainder of the meeting largely will be devoted to a special session titled “Offshore Wind in the Northeast Region.” This session will cover four wide-ranging subject areas: (1) A broad overview of the scope and time horizon of likely offshore wind energy development in the region; (2) a summary of the wind energy development process and major players; (3) an update on research planning and coordination, including wind energy impacts on fishery surveys; and (4) an update on regional projects under development. Finally, the Council will close out the meeting with “other business.”

Although non-emergency issues not contained on this agenda may come before the Council for discussion, those issues may not be the subject of formal action during this meeting. Council action will be restricted to those issues specifically listed in this notice and any issues arising after publication of this notice that require emergency action under section 305(c) of the Magnuson-Stevens Fishery Conservation and Management Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Thomas A. Nies (see ADDRESSES) at least 5 days prior to the meeting date.

Dated: March 27, 2019.
Rey Israel Marquez,
Acting Deputy Director, Office of Sustainable Fisheries, National Marine Fisheries Service.

[FR Doc. 2019-06228 Filed 3-29-19; 8:45 am]

BILLING CODE 3510-22-P